DEPARTMENT OF TRANSPORTATION

Federal Transit Administration

[FTA Docket No. FTA-2015-0018]

Notice of Request for Extension of a Currently Approved Information Collection

AGENCY: Federal Transit Administration, DOT.

ACTION: Notice of request for comments.

SUMMARY: In accordance with the Paperwork Reduction Act of 1995, this notice announces the intention of the Federal Transit Administration (FTA) to request the Office of Management and Budget (OMB) to approve the revision of the currently approved information collection:

Fixed Guideway Capital Investment Grants—New Starts Section 5309

DATES: Comments must be submitted before August 24, 2015.

ADDRESSES: To ensure that your comments are not entered more than once into the docket, submit comments identified by the docket number by only one of the following methods:

1. Web site: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-493-2251.

3. Mail: U.S. Department of Transportation, 1200 New Jersey Avenue SE., Docket Operations, M-30, West Building, Ground Floor, Room W12-140, Washington, DC 20590-0001.

4. Hand Delivery: U.S. Department of Transportation, 1200 New Jersey Avenue SE., Docket Operations, M-30, West Building, Ground Floor, Room W12-140, Washington, DC 20590-0001 between 9:00 a.m. and 5:00 p.m., Monday through Friday, except federal holidays.

Instructions: You must include the agency name and docket number for this notice at the beginning of your comments. Submit two copies of your comments if you submit them by mail. For confirmation that FTA has received your comments, include a self-addressed stamped postcard. Note that all comments received, including any personal information, will be posted and will be available to Internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE., Docket Operations, M-30, West Building, Ground Floor, Room W12-140, Washington, DC 20590-0001 between 9:00 a.m. and 5:00 p.m., Monday through Friday, except federal holidays.

FOR FURTHER INFORMATION CONTACT: Ms. Elizabeth Day, Office of Planning and Environment, (202) 366-5159, or email: elizabeth.day@dot.gov

SUPPLEMENTARY INFORMATION: Interested parties are invited to send comments regarding any aspect of this information collection, including: (1) the necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Fixed Guideway Capital Investment Grants—New Starts Section 5309

(OMB Number: 2132-0561)

Background: The Federal Transit Administration (FTA) administers the discretionary Capital Investment Grant (CIG) grant program under 49 U.S.C. 5309 that provides funding for major transit capital investments including rapid rail, light rail, commuter rail, bus rapid transit, and ferries. Three types of eligible projects are outlined in law: smaller scaled corridor-based transit capital projects known as “Small Starts”; new fixed guideway transit systems and extensions to existing fixed guideway systems known as “New Starts”; and projects to improve capacity at least 10 percent in existing fixed guideway corridors that are at capacity today or will be in five years, known as “Core Capacity”. The CIG program has a longstanding requirement that FTA evaluate proposed projects against a prescribed set of statutory criteria at specific points during the projects' development including when they seek to enter a subsequent phase of the process or a construction grant agreement. In addition, FTA must report on its evaluations and ratings annually to Congress.

The Moving Ahead for Progress Act in the 21st Century (MAP-21) enacted on July 6, 2012, made significant changes to the CIG program, including creation of an entirely new category of eligible projects called Core Capacity. MAP-21 also reduced the number of steps in the CIG process projects must follow to receive funds, created a new congestion relief evaluation criterion FTA must use to evaluate and rate projects, and specified that “warrants” (ways projects can qualify for automatic ratings) should be developed and used to the extent practicable. The requirement for CIG project ratings has been in place since 1998. Thus, the requirements for project evaluation and data collection for these proposed projects are not new. In general, the information used by FTA for CIG project evaluation and rating should arise as a part of the normal project planning process.

FTA has been collecting project evaluation information from project sponsors under the existing OMB approval for this program (OMB No. 2132-0561). However, due to the addition of the Core Capacity eligibility, the changes to the steps in the CIG process made by MAP-21, and the proposed implementation of “warrants,” it became apparent that some information now required might be beyond the scope of ordinary planning activities.

Respondents: State and local government.

Estimated Annual Burden on Respondents: Approximately 444 hours for each of the 155 respondents.

Estimated Annual Total Burden: 68,840 hours.

Frequency: Annually.

Matthew M. Crouch,
Associate Administrator for Administration.

[FR Doc. 2015-15485 Filed 6-23-15; 8:45 am]

BILLING CODE P